DEPARTMENT OF AGRICULTURE

Animal and Plant Health Inspection Service

[Docket No. APHIS-2018-0068]

Importation of Dianthus spp. From Kenya

AGENCY: Animal and Plant Health Inspection Service, USDA.

ACTION: Notice.

SUMMARY: We are notifying the public that we propose to make changes to the import requirements in the U.S. Department of Agriculture (USDA) Plants for Planting Manual for imports of Dianthus spp. (carnation) cuttings from Kenya. Currently, Dianthus spp. cuttings from Kenya require mandatory postentry quarantine within the United States. We are proposing to allow Dianthus spp. cuttings from Kenya to be imported into the United States without postentry quarantine, subject to certain conditions. These changes to the USDA Plants for Planting Manual would relieve restrictions on Dianthus spp. cuttings from Kenya while continuing to address the possible introduction of quarantine pests through the importation of such cuttings. We are making these changes available to the public for review and comment.

DATES: We will consider all comments that we receive on or before July 8, 2019.

ADDRESSES: You may submit comments by either of the following methods:

• Federal eRulemaking Portal: Go to http://www.regulations.gov/#!docketDetail;D=APHIS-2018-0068.

• Postal Mail/Commercial Delivery: Send your comment to Docket No. APHIS-2018-0068, Regulatory Analysis and Development, PPD, APHIS, Station 3A-03.8, 4700 River Road, Unit 118, Riverdale, MD 20737-1238.

Supporting documents and any comments we receive on this docket may be viewed at http://www.regulations.gov/#!docketDetail;D=APHIS-2018-0068 or in our reading room, which is located in Room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Ms. Lydia E. Colón, Senior Regulatory Policy Specialist, PPQ, APHIS, 4700 River Road, Unit 133, Riverdale, MD 20737-1236; (301) 851-2302.

SUPPLEMENTARY INFORMATION:

Background

Under the regulations in “Subpart H—Plants for Planting” (7 CFR 319.37-1 through 319.37-23, referred to below as the regulations), the Animal and Plant Health Inspection Service (APHIS) of the U.S. Department of Agriculture (USDA) prohibits or restricts the importation of plants for planting (including living plants, plant parts, seeds, and plant cuttings) to prevent the introduction of quarantine pests into the United States. Quarantine pest is defined in § 319.37-2 as a plant pest or noxious weed that is of potential economic importance to the United States and not yet present in the United States, or present but not widely distributed and being officially controlled. In accordance with § 319.37-20, APHIS may impose quarantines and other restrictions on the importation of specific types of plants for planting. These restrictions are listed in the USDA Plants for Planting Manual.¹

¹ https://www.aphis.usda.gov/import_export/plants/manuals/ports/downloads/plants_for_planting.pdf.

In a final rule ² published in the Federal Register on March 19, 2018 (83 FR 11845-11867, Docket No. APHIS-2008-0011), and effective on April 18, 2018, we amended the regulations so that restrictions on the importation of certain types of plants for planting would be included in the USDA Plants for Planting Manual instead of the regulations, meaning that changes to specific restrictions on plants for planting are no longer made through rulemaking. Under § 319.37-20, if APHIS determines it is necessary to add, change, or remove restrictions on the importation of a specific type of plant for planting, we will publish in the Federal Register a notice that announces the proposed change and invites public comment.

² The proposed and final rules, supporting documents, and comments can be viewed at https://www.regulations.gov/docket?D=APHIS-2008-0011.

The USDA Plants for Planting Manual currently requires Dianthus spp. (carnation) cuttings to be held in postentry quarantine for 1 year following their importation into the United States, unless they originate from Canada, Great Britain, or the Netherlands. Canadian Dianthus spp. cuttings are generally exempt from postentry quarantine, while Dianthus spp. cuttings from Great Britain or the Netherlands are exempt from postentry quarantine provided that they are grown under certain conditions.

The national plant protection organization (NPPO) of Kenya requested that we revise the USDA Plants for Planting Manual to also allow the importation of Dianthus spp. cuttings from Kenya without postentry quarantine. In response to this request, we prepared a commodity import evaluation document (CIED) that evaluates the request in light of the plant pest risk associated with the importation of Dianthus spp. cuttings from Kenya.

Based on the CIED, we are proposing to allow Dianthus spp. cuttings from Kenya to be imported into the United States without postentry quarantine, provided that:

• The cuttings are grown in a greenhouse that is registered with the NPPO of Kenya and that operates under an agreement with the NPPO.

• The NPPO maintains a list of registered growers and provides them to APHIS at least annually.

• The production site incorporates safeguards to prevent the entry of arthropod pests including, but not necessarily limited to, insect proof screening over openings and self-closing double or airlock-type doors.

• Blacklight traps are maintained for at least 1 year following construction of the production site, registration of the site, replacement of the covering of the production site, or discovery and repair to any rips or tears in the covering of the production site.

• Any rips or tears are repaired immediately.

• In the event of detection of quarantine pests in a production site, the site will not be allowed to export until appropriate control measures approved by the NPPO are taken and their effectiveness verified by APHIS.

• Plants destined for export to the United States are produced in a production site devoted solely to production of such plants.

• Parental stock from which the plants intended for importation derive are inspected and found free of the fungus Phialophora cinerescens, and indexed and found free of Carnation etched ring virus and Carnation necrotic fleck virus.

• At least once monthly for the 4 months prior to the cuttings' export to the United States, the production site is visually inspected for Spodoptera littoralis (cotton leaf worm), Helicoverpa armigera (Old World bollworm), Agrotis segetum (turnip moth), Epichoristodes acerbella (carnation tortrix), Aspidiotus nerii (a scale), and Chrysodeixis chalcites (a moth), as well as Phialophora cinerescens, Carnation etched ring virus, and Carnation necrotic fleck virus.

• The production site maintains records regarding production, indexing, inspection, and pest management, and inspectors from the NPPO and APHIS have access to both the production site and these records.

• Cuttings are accompanied by a phytosanitary certificate with an additional declaration that the plants were produced in a production site registered with the NPPO of Kenya, and that the plants were grown under conditions specified by APHIS to prevent infestation with Phialophora cinerescens, Carnation etched ring virus, Carnation necrotic fleck virus, Agrotis segetum, Epichoristodes acerbella, Helicoverpa armigera, Spodoptera littoralis, and Aspidiotus nerii.

• Cuttings are limited to commercial consignments only.

Therefore, in accordance with § 319.37-20(c), we are announcing the availability of our CIED for public review and comment. That document may be viewed on the Regulations.gov website or in our reading room (see ADDRESSES above for a link to Regulations.gov and information on the location and hours of the reading room). You may request paper copies of these documents by calling or writing to the person listed under FOR FURTHER INFORMATION CONTACT. Please refer to the subject of the analysis you wish to review when requesting copies.

After we review public comments on our proposed changes to the USDA Plants for Planting Manual, we will publish a second notice. The second notice will inform the public of any changes to the import requirements we consider to be necessary to mitigate the entry of quarantine pests into the United States through the importation of Dianthus spp. cuttings from Kenya.

Authority: 7 U.S.C. 1633, 7701-7772, and 7781-7786; 21 U.S.C. 136 and 136a; 7 CFR 2.22, 2.80, and 371.3.

Done in Washington, DC, this 3rd day of May 2019.
Kevin Shea,
Administrator, Animal and Plant Health Inspection Service.

[FR Doc. 2019-09511 Filed 5-8-19; 8:45 am]

BILLING CODE 3410-34-P